FEDERAL COMMUNICATIONS COMMISSION

[RM-10803; DA 04-1380]

Broadcasters' Service to Their Local Communities

AGENCY: Federal Communications Commission.

ACTION: Notice of meeting.

SUMMARY: The Federal Communications Commission will hold a Localism Task Force hearing in Rapid City, South Dakota, on May 26, 2004. The purpose of the hearing is to gather information from consumers, industry, civic organizations, and others on broadcasters' service to their local communities.

DATES: The hearing will be held on Wednesday, May 26, 2004, from 5:30 p.m. to 9 p.m.

ADDRESSES: The hearing will be held at the Surbeck Student Center Ballroom at the South Dakota School of Mines and Technology, located at 501 East Saint Joseph Street, Rapid City, South Dakota.

FOR FURTHER INFORMATION CONTACT: Rebecca Lockhart, Media Bureau, 202-418-7777.

SUPPLEMENTARY INFORMATION: The Federal Communications Commission (FCC) will hold a Localism Task Force hearing on the subject of localism, on May 26, 2004, in Rapid City, South Dakota. Several FCC Commissioners will preside. The purpose of the hearing is to gather information from consumers, industry, civic organizations, and others on broadcasters' service to their local communities. An important focus of the hearing will be to gather information and to conduct outreach for the ongoing nationwide round of broadcast station license renewals. The designated speakers will include representatives from consumer and advocacy groups as well as broadcasters. The hearing format will enable members of the public to participate via an “open microphone” session. Additional details regarding the designated speakers, agenda, and hearing format will be announced shortly.

1. Open captioning will be provided for this event. Other reasonable accommodations for people with disabilities are available upon request. Please include a description of the accommodation needed, providing as much detail as you can, as well as contact information in case additional information is needed. Please make your request as early as possible. Last minute requests will be accepted, but may be impossible to fulfill. Please send a request by e-mail to fcc504@fcc.gov, or call the Consumer & Governmental Affairs Bureau. For sign language interpreters, CART, and other reasonable accommodations, call 202-418-0530 (voice) or 202-418-0432 (TTY). For accessible format material (Braille, large print, electronic files, and audio format), call 202-418-0531 (voice) or 202-418-7365 (TTY).

2. A live audiocast of the hearing will be available at the Commission's Web site at www.fcc.gov on a first-come, first served basis. In addition, the hearing will be recorded, and the record will be available to the public. The public may also file comments or other documents with the Commission and should reference RM-10803. Filing instructions are provided at http://www.fcc.gov/localism/filing_instructions.doc.

Federal Communications Commission.
Royce D. Sherlock,
Chief, Industry Analysis Division, Media Bureau.

[FR Doc. 04-11427 Filed 5-18-04; 8:45 am]

BILLING CODE 6712-01-P